ENVIRONMENTAL PROTECTION AGENCY

40 CFR Part 147

[EPA-HQ-OW-2020-0595; FRL 10023-18-OW]

RIN 2040-ZA35

State of Michigan Underground Injection Control (UIC) Class II Program; Primacy Approval

AGENCY: Environmental Protection Agency (EPA).

ACTION: Withdrawal of direct final rule.

SUMMARY: Because the U.S. Environmental Protection Agency (EPA) received adverse comments, the agency is withdrawing the direct final rule for State of Michigan Underground Injection Control (UIC) Class II Program; Primacy Approval, published on March 19, 2021.

DATES: As of June 17, 2021, EPA withdraws the direct final rule published at 86 FR 14846, on March 19, 2021.

FOR FURTHER INFORMATION CONTACT: Kyle Carey, Drinking Water Protection Division, Office of Ground Water and Drinking Water (4606M), U.S. Environmental Protection Agency, 1200 Pennsylvania Ave. NW, Washington, DC 20460; telephone number: (202) 564-2322; fax number: (202) 564-3754; email address: carey.kyle@epa.gov, or Anna Miller, UIC Section, U.S. Environmental Protection Agency, 77 West Jackson Boulevard, Chicago, IL 60604; telephone number: (312) 886-7060; email address: miller.anna@epa.gov.

SUPPLEMENTARY INFORMATION: Because the U.S. Environmental Protection Agency (EPA) received adverse comment, the agency is withdrawing the direct final rule for State of Michigan Underground Injection Control (UIC) Class II Program; Primacy Approval, published on March 19, 2021. EPA stated in that direct final rule that if the agency received adverse comments by April 19, 2021, the direct final rule would not take effect and we would publish a timely withdrawal in the Federal Register. EPA subsequently received adverse comments on that direct final rule. EPA will address those comments in any subsequent final action, which will be based on the parallel proposed rule also published on March 19, 2021. As stated in the direct final rule and the parallel proposed rule, EPA will not institute a second comment period on this action.

Michael S. Regan,
Administrator.

PART 147—STATE, TRIBAL, AND EPA-ADMINISTERED UNDERGROUND INJECTION CONTROL PROGRAMS

Accordingly, the rule amending 40 CFR part 147, which published on March 19, 2021 (86 FR 14846), is withdrawn as of June 17, 2021.

[FR Doc. 2021-12918 Filed 6-16-21; 8:45 am]

BILLING CODE 6560-50-P